DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. State Studies on TANF Caseload—NEW—The Assistant Secretary for Planning and Evaluation has developed a common TANF beneficiary survey instrument to be administered by five states and the District of Columbia through cooperative agreements. This data collection will provide information on the characteristics, barriers to employment and service needs of the TANF caseload. Respondents: Individuals; Number of Respondents: 6,640; Average Burden per Response: .66 hours; Total Burden: 4,378 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street, NW., Washington, DC 20503.

Comments may also be sent to Cynthia Agens Bauer, OS Reports Clearance Officer, Room 503H, Humphrey Building, 200 Independence Avenue, SW., Washington, DC, 20201. Written comments should be received within 30 days of this notice.

Dated: February 28, 2002.
Kerry Weems,
Acting Deputy Assistant Secretary, Budget.

[FR Doc. 02-6191 Filed 3-14-02; 8:45 am]

BILLING CODE 4154-05-M